DEPARTMENT OF ENERGY

Federal Energy Regulatory Commission

[Docket No. ER11-4580-000]

California Independent System Operator Corporation; Notice of Technical Conference

By order dated November 25, 2011, in Docket No. ER11-4580-000, the Federal Energy Regulatory Commission (Commission) directed staff to convene a technical conference regarding California Independent System Operator Corporation's (CAISO) proposal to eliminate convergence bidding at intertie scheduling points. Take notice that such conference will be held on February 2, 2012 at the Commission's headquarters at 888 First Street NE., Washington, DC 20426, beginning at 9 a.m. (Eastern Time) in Hearing Room 1. The technical conference will be led by Commission staff.

The purpose of the technical conference is to discuss the issues raised by CAISO's proposal to eliminate convergence bidding at intertie scheduling points. A subsequent notice detailing the topics to be discussed and agenda will be issued in advance of the conference.

Parties will have an opportunity to listen to the conference by telephone. Further call-in information will be provided in a subsequent notice.

FERC conferences are accessible under section 508 of the Rehabilitation Act of 1973. For accessibility accommodations please send an email to accessibility@ferc.gov or call toll free 1 (866) 208-3372 (voice) or (202) 208-8659 (TTY); or send a fax to (202) 208-2106 with the required accommodations.

For more information on this conference, please contact Moon Athwal at moon.athwal@ferc.gov or (202) 502-6272, or Colleen Farrell at colleen.farrell@ferc.gov or (202) 502-6751.

Dated: December 2, 2011.
Nathaniel J. Davis, Sr.,
Deputy Secretary.

[FR Doc. 2011-31505 Filed 12-7-11; 8:45 am]

BILLING CODE 6717-01-P